DEPARTMENT OF COMMERCE

International Trade Administration

A-570-905

Postponement of Preliminary Determination of Antidumping Duty Investigation: Certain Polyester Staple Fiber from the People's Republic of China

AGENCY: Import Administration, International Trade Administration, Department of Commerce.

EFFECTIVE DATE: December 5, 2006.

FOR FURTHER INFORMATION CONTACT: Michael Holton or Paul Walker, Import Administration, International Trade Administration, U.S. Department of Commerce, 14th Street and Constitution Avenue, NW., Washington, DC 20230; telephone: (202) 482-1324 or (202) 482-0413, respectively.

SUPPLEMENTARY INFORMATION:

Postponement of Preliminary Determination

On July 13, 2006, the Department of Commerce (“Department”) initiated the antidumping duty investigation of certain polyester staple fiber from the People's Republic of China. See Initiation of Antidumping Duty Investigation: Certain Polyester Staple Fiber from the People's Republic of China, 71 FR 41201 (July 20, 2006) (“Initiation Notice”). The Initiation Notice stated that the Department would make its preliminary determination for this antidumping duty investigation no later than 140 days after the date of issuance of the initiation (i.e., November 30, 2006).

We have determined that this investigation is extraordinarily complicated within the meaning of section 733(c)(1)(B)(i) of the Tariff Act of 1930, as amended (“the Act”). On November 16, 2006, the Department notified parties to the investigation that it intended to postpone the preliminary determination for reasons provided in this notice. See Memorandum to the file, from Michael Holton, Postponement of Preliminary Determination of Antidumping Duty Investigation: Certain Polyester Staple Fiber from the People's Republic of China, dated November 16, 2006. Specifically, we find that the Department requires additional time to gather more information from all the mandatory respondents regarding market-economy inputs, affiliations, establishing the proper date of sale and the allocation methodology used to report certain factors of production. In addition, the Department also requires additional time to evaluate the separate-rate applications.

Therefore, it is the Department's decision to postpone the current preliminary determination so that all of the issues currently under investigation at this time can be addressed in the most complete manner possible. For the reasons identified above, we are postponing the preliminary determination under section 733(c)(1)(B) of the Act by fifteen days to December 15, 2006. The deadline for the final determination will continue to be 75 days after the date of the preliminary determination.

This notice is issued and published pursuant to sections 733(c)(2) of the Act and 19 CFR 351.205(f)(1).

Dated: November 28, 2006.
David M. Spooner,
Assistant Secretary for Import Administration.

[FR Doc. E6-20566 Filed 12-4-06; 8:45 am]

Billing Code: 3510-DS-S